DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment
[8/1/2009 through 8/31/2009]
Firm | Address | Date accepted for filing | Products
Decore-Ative Specialties, Inc | 2772 South Peck Road Monrovia, CA 91016 | 8/24/2009 | Wood cabinet doors & drawers for use in custom home remodeling. They also manufacture a laminated thermo-Foil door product.
C & R Plating Corp | 302 Factory St. Columbia City, IN 46725 | 8/10/2009 | Plating of parts for industrial sectors.
Miniature Precision Components, Inc | 100 Wisconsin St. Walworth, WI 53184-1901 | 8/14/2009 | Plastic components for automobiles and other industries.
JEN Manufacturing, Inc | 3 Latti Farm Road Millbury, MA 01527 | 8/6/2009 | Polyurethane foam disposable paint brushes and roller refills.
Southern Mattress Co., Inc | P.O. Box 645 Rocky Mount, NC 27802 | 8/12/2009 | Mattresses and box springs.
St. Joseph Packaging, Inc | 4514 Easton Road St. Joseph, MO 64503 | 8/11/2009 | Folding cartons and displays made of paper and paperbox material.
Genesee Packaging, Inc | 2010 N Dort Highway Flint, MI 48506 | 8/10/2009 | Rigid boxes and cartons of paper or paperboard.
R.H. LeMieur Corp. | 638 Patriots Road Templeton, MA 01468 | 8/10/2009 | Dining room furniture, bar stools, benches, desk chairs, rocking chairs, hutches, cabinets, hunt boards and buffets.
Cloverdale | 3015 34th Street, NW Mandan, ND 58554 | 8/6/2009 | Sausages and other prepared meat products.
Alliance Laundry Systems, LLC | 221 Shepard Street Ripon, WI 54971 | 8/12/2009 | The company is a manufacturer of laundry machines for the commercial, industrial, and consumer industries.
Prospect Machine Products, Inc | 139 Union City Road, PO Prospect, CT 06712 | 8/10/2009 | Drawn metal stampings.
Jagemann Stamping Company | 5757 West Custer Street Manitowoc, WI 54220 | 8/13/2009 | Motor housings, clamps, and various other steel components.
Mold-A-Matic Corporation | 147 River Street Oneonta, NY 13820-2239 | 8/24/2009 | Plastic injection molding products and pressure switches.
Freeway Corporation | 9301 Allen Drive Cleveland, OH 44125 | 8/13/2009 | Washers, bearings, turned metal products, stampings and assemblies.
American Cord and Webbing Co., Inc | 88 Century Drive Woonsocket, RI 02895 | 8/14/2009 | Stamped metal closures, plastic closures, cord and twine.
Hoist Liftruck Mfg., Inc | 6499 W. 65th Street Bedford Park, IL 60638 | 8/13/2009 | Heavy-duty lift trucks.
Reed & Prince Manufacturing Corporation | 8 Mohawk Drive Leominster, MA 01453 | 8/11/2009 | Fasteners.
Mass Integrated Systems Inc | 18 Henry Graf Road, Unit 1 Newburyport, MA 01950 | 8/11/2009 | Value added LCD goods.
Cameron Glass, Inc | 3550 W. Tacoma St. Broken Arrow, OK 74012 | 8/10/2009 | Tempered Glass.
Quality Control Corp | 7315 West Wilson Avenue Harwood, IL 60706 | 8/10/2009 | Steering, braking, fuel system, pumps, actuators, air tools, directional control valves and surgical medical devices components. Manufacturing services include project management, management systems, material control, assembly and testing, and heat treating.
Glenn Ihde & Company | 4500 W Eldorado Pkwy. McKinney, TX 75070 | 8/10/2009 | Structural steel engineering.
Standard Plating Inc | 964 Main Street W. Springfield, MA 01089 | 8/11/2009 | Metal finishing services.
Julius Koch USA, Inc | 387 Church Street New Bedford, MA 02745 | 8/11/2009 | Custom-dyed knit, woven tape and cord for decorator window and blind treatments and a complete line of cordage for vertical blinds and pleated shades.
Beacon Group, Inc | 85 Granby Street Bloomfield, CT 06002 | 8/11/2009 | Hubs, shafts, disks, seals, rings, housings, cases and gear boxes for the aerospace industry.
Gamblin Enterprises Inc, dba All American | 926 5th Ave. South Kent, WA 98032 | 8/11/2009 | Zinc, rack and barrel plating.
Eastman Machine Company | 779 Washington Street Buffalo, NY 14203-1308 | 8/11/2009 | Industrial cutting and spreading equipment for flexible materials.
Henry Molded Products, Inc | 71 North 16th Street Lebanon, PA 17042 | 8/24/2009 | Molded pulp protective packaging materials.

Any party having a substantial interest in these proceedings may request a public hearing on the matter. A written request for a hearing must be submitted to the Office of Performance Evaluation, Room 7009, Economic Development Administration, U.S. Department of Commerce, Washington, DC 20230, no later than ten (10) calendar days following publication of this notice. Please follow the procedures set forth in Section 315.9 of EDA's final rule (71 FR 56704) for procedures for requesting a public hearing. The Catalog of Federal Domestic Assistance official program number and title of the program under which these petitions are submitted is 11.313, Trade Adjustment Assistance.

William P. Kittredge,
Program Officer for TAA.

[FR Doc. E9-22148 Filed 9-14-09; 8:45 am]

BILLING CODE 3510-24-P